DEPARTMENT OF COMMERCE

Census Bureau

Agency Information Collection Activities; Submission to the Office of Management and Budget (OMB) for Review and Approval; Comment Request; National Survey of Children's Health

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the National Survey of Children's Health, prior to the submission of the information collection request (ICR) to OMB for approval.

DATES: To ensure consideration, comments regarding this proposed information collection must be received on or before February 3, 2026.

ADDRESSES: Interested persons are invited to submit written comments by email to ADDP.NSCH.List@census.gov. Please reference National Survey of Children's Health in the subject line of your comments. You may also submit comments, identified by Docket Number USBC-2025-0137, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Christine Flanagan Borman, Survey Director, by way of phone (301-763-4315) or email (christine.flanagan.borman@census.gov).

SUPPLEMENTARY INFORMATION:

I. Abstract

Sponsored primarily by the U.S. Department of Health and Human Services' Health Resources Services Administration's Maternal and Child Health Bureau (HRSA MCHB), the National Survey of Children's Health (NSCH) is designed to produce data on the physical and emotional health of children under 18 years of age who live in the United States. For each year of the NSCH annual survey, there are a variety of partnering agencies that sponsor supplemental content on the NSCH. Partnering agencies that have participated in prior cycles of the NSCH include the United States Department of Health and Human Services' Centers for Disease Control and Prevention (CDC), the United States Department of Agriculture (USDA), and the Environmental Protection Agency (EPA). Partnering agencies may decide to provide support between now and the submission of the full ICR. A full list of these partnering agencies will be included within the Supporting Statements. The upcoming cycle of the NSCH also plans to include state oversamples again. These oversamples are sponsored by the interested state and support more targeted assessment, program planning, and evaluation within their state.

The NSCH collects information on factors related to the well-being of children, including access to health care, in-home medical care, family interactions, parental health, school and after-school experiences, and neighborhood characteristics. The goal of the 2026 NSCH is to provide HRSA MCHB, the supplemental sponsoring agencies, states, and other data users with the necessary data to support the production of national estimates yearly and state- or region-based estimates with pooled samples on the health and well-being of children, their families, and their communities as well as estimates of the prevalence of and impact on children with special health care needs. The MCHB sponsored NSCH sample plus the separately sponsored state-based oversamples will be approximately 400,000 addresses for the 2026 NSCH.

NSCH is seeking clearance to make the following changes:

• Increased sample size—The MCHB sponsored NSCH sample plus the separately sponsored age-, state-, or region-based oversamples will be approximately 400,000 addresses for the 2026 NSCH, compared with 360,000 in 2025. The increased sample will allow individual states and agencies to produce statistically sound child health estimates in a fewer number of pooled years than if the sample were to remain the same annually, thereby resulting in more timely state- and region-based health estimates of children. For example, more states can anticipate having 1,500 interviews with two years of data, an important threshold for a number of state-level health indicators.

• Revised questionnaire content—Newly proposed and revised NSCH content from the sponsors at HRSA MCHB underwent a 9-person cognitive test ¹ and/or expert review. This testing was conducted by one of the survey methodology areas within the Census Bureau. Based on the results, a list of modified content will be included in the full OMB ICR for the 2026 NSCH.

¹ Paperwork Reduction Act Guidance https://pra.digital.gov/do-i-need-clearance/.

• Oversamples ²—In order to inform various priorities that are otherwise not supported by the NSCH base sample, some stakeholders are interested in sponsoring an oversample of particular populations as part of the annual NSCH administration. Currently, there are nine states interested in contributing to an oversample as part of the 2026 NSCH. All nine states (California, Illinois, Kansas, Nebraska, New Mexico, Ohio, Pennsylvania, West Virginia, and Wisconsin) have been oversampled in one or more previous cycle(s) of the NSCH since 2020 and are continuing with the option as part of the 2026 NSCH.

² State Oversampling in the National Survey of Children's Health: Feasibility, Cost, and Alternative Approaches https://census.gov/content/dam/Census/programs-surveys/nsch/NSCH_State_Oversample_Summary_Document.pdf.

• Collect respondent information on mail-return screener instruments—Respondent name, email address, and phone number will be collected on the paper screener questionnaire and a mail-returnable screener card. This information will be used to encourage households with children to complete the remaining elements of the interview through email and telephone reminders. The mail-returnable screener card will be deployed as a test to approximately 70,000 addresses.

Besides the proposed changes listed above, the 2026 NSCH will proceed with the current design outlined in the previous OMB ICR package, including the use of incentives. Response rates for the unconditional monetary incentive group continues to show a statistically significant difference over the control group that did not receive an unconditional monetary incentive. As part of the initial screener mailing, 90% will include $5 and 10% will not receive an incentive. The incentive assignment to each sampled address will still be random as was done in prior cycles and approved by OMB. In the final screener mailing, a subset of approximately 10,000 households with children that started the web instrument but did not finish will receive a final web push invite with a secondary unconditional incentive in an attempt to have the household log back into the web instrument and finish the survey. For those households that are eligible for an initial paper topical mailing, this package will also include an additional $5 incentive. Additional incentives and mailing strategies may be used to both reduce nonresponse bias and improve response rates, including email and telephone reminders, per request of the sponsor and as funding allows. We will continue to make modifications to data collection strategies based on modeled information about paper or internet response preference. Results from prior survey cycles will continue to be used to inform the decisions made regarding future cycles of the NSCH.

From prior cycles of the NSCH, using American Association for Public Opinion Research definitions of response, we can expect for the 2026 NSCH an overall screener completion rate to be about 40.1% and an overall topical completion rate to be about 26.3%.³ This is different from the overall response rate, which we expect to be about 36.3%.⁴

³ Screener Completion Rate is the proportion of screener-eligible households (i.e., occupied residences) that completed a screener. It is equal to (S+X)/(S+X+R+e(UR+UO)), where S is the count of completed screeners with children, X is completed screeners without children, R is screener refusals, and e(UR+UO) is the estimated count of screener eligible households among nonresponding addresses. The Topical Completion Rate is the proportion of topical-eligible households (i.e., occupied residences with children present) that completed a topical questionnaire. It is equal to I/HCt, where I is the count of completed topicals and HCt is the estimated count of households with children in the sample or S+R+(S+R)/(S+X+R)*e(UR+UO).

⁴ Overall Response Rate is the probability a resolved address completes a screener questionnaire and then, when eligible, completes a topical questionnaire.

II. Method of Collection

The 2026 NSCH plan for the web push data collection design includes approximately 70% of the production addresses receiving an initial invite with instructions on how to complete an English or Spanish-language screener questionnaire via the web. This group will receive two web survey invitation letters requesting their participation in the survey prior to receiving up to two additional paper screener questionnaires in the second and third follow-up mailings. Households that decide to complete the web-based survey will be taken through the screener questionnaire to determine if they are eligible for one of three topical instruments. Households that list at least one child who is 0 to 17 years old in the screener are directed into a topical questionnaire immediately after the last screener question. If a household in the web push treatment group decides to complete the paper screener, the household will receive an additional topical questionnaire incentive.

The 2026 NSCH plan for the mixed-mode data collection design includes up to 30% of the production addresses receiving a paper screener questionnaire in the initial mailing with instructions on how to complete an English or Spanish language screener questionnaire via the web as well. This group will receive both a web survey invitation letter along with a mailed paper screener questionnaire with either the initial invitation or the first follow-up and each additional nonresponse follow-up mailing. Households that decide to complete the web-based survey will follow the same screener and topical selection path as the web push. Households that choose to complete the paper screener questionnaire rather than completing the survey on the internet and that have eligible children will be mailed a paper topical questionnaire upon receipt of their completed paper screener at the Census Bureau's National Processing Center. If a household in the mixed-mode group chooses to complete the paper screener instead of completing the web-based screener via the internet, then the household will receive an additional topical questionnaire incentive.

III. Data

OMB Control Number: 0607-0990.

Form Number(s): NSCH-S1 (English Screener), NSCH-T1 (English Topical for 0- to 5-year-old children), NSCH-T2 (English Topical for 6- to 11-year-old children), NSCH-T3 (English Topical for 12- to 17-year-old children), NSCH-S-S1 (Spanish Screener), NSCH-S-T1 (Spanish Topical for 0- to 5-year-old children), NSCH-S-T2 (Spanish Topical for 6- to 11-year-old children), and NSCH-S-T3 (Spanish Topical for 12- to 17-year-old children).

Type of Review: Regular submission, Request for a Revision of a Currently Approved Collection.

Affected Public: Individuals and households.

Estimated Number of Respondents: 122,461.

Estimated Time per Response: 5 minutes per screener response and 35-36 minutes per topical response, which in total is approximately 40-41 minutes for households with eligible children.

Estimated Total Annual Burden Hours: 42,496.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Title 13 U.S.C. 8(b); Section 501(a)(2) of the Social Security Act (42 U.S.C. 701).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-22134 Filed 12-4-25; 8:45 am]

BILLING CODE 3510-07-P